INTERNATIONAL TRADE COMMISSION

[Investigation No. 337-TA-945 (Modification Proceeding)]

Certain Network Devices, Related Software and Components Thereof (II); Notice of Correction Concerning the Institution of Modification Proceeding

AGENCY: U.S. International Trade Commission.

ACTION: Correction of notice.

SUMMARY: Correction is made to notice 82 FR 50678, which was published on Wednesday, November 1, 2017, to clarify that the Office of Unfair Import Investigations is not named as a party in this modification proceeding. Any inclusion of the Office of Unfair Import Investigations as a named party in this proceeding is hereby corrected in the Notice of Institution.

By order of the Commission.
Issued: November 7, 2017.
Lisa R. Barton,
Secretary to the Commission.

[FR Doc. 2017-24530 Filed 11-9-17; 8:45 am]

BILLING CODE 7020-02-P